DEPARTMENT OF TRANSPORTATION

Federal Aviation Administration

14 CFR Part 71

[Docket No. FAA-2022-1558; Airspace Docket No. 22-AGL-11]

RIN 2120-AA66

Proposed Amendment and Establishment of Air Traffic Service (ATS) Routes in the Vicinity of Devils Lake, ND

AGENCY: Federal Aviation Administration (FAA), DOT.

ACTION: Notice of proposed rulemaking (NPRM).

SUMMARY: This action proposes to amend VHF Omnidirectional Range (VOR) Federal airways V-169, V-170, and V-430, and Area Navigation (RNAV) route T-331; and establish RNAV route T-475. The FAA is proposing this action due to the planned decommissioning of the VOR portion of the Devils Lake, ND (DVL), VOR/Distance Measuring Equipment (VOR/DME) navigational aid (NAVAID). The Devils Lake VOR is being decommissioned in support of the FAA's VOR Minimum Operational Network (MON) program.

DATES: Comments must be received on or before January 30, 2023.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-1558; Airspace Docket No. 22-AGL-11 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the Air Traffic Service (ATS) routes as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1558; Airspace Docket No. 22-AGL-11) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1558; Airspace Docket No. 22-AGL-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is planning to decommission the Devils Lake, ND, VOR in August 2023. The Devils Lake VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Devils Lake VOR/DME is planned for decommissioning, the co-located DME portion of the NAVAID is being retained to support NextGen PBN flight procedure requirements.

The ATS routes effected by the planned decommissioning of the Devils Lake VOR are VOR Federal airways V-169, V-170, and V-430. With the planned decommissioning of the Devils Lake VOR the remaining ground-based NAVAID coverage in the area is insufficient to enable the continuity of the affected ATS routes. As such, modifications to V-169 and V-170 would result in the airways being shortened due to the Devils Lake VOR/DME end point being removed and modification to V-430 would result in a gap in the airway due to the Devils Lake VOR being removed. Further, though not directly affected by the planned decommissioning of the Devils Lake VOR, RNAV route T-331 would also be modified resulting in the route being extended, in part, to provide a RNAV replacement route for the segment of V-430 affected by the Devils Lake VOR removal.

To overcome the affected ATS route segments being removed, instrument flight rules (IFR) traffic could use portions of adjacent VOR Federal airways V-15, V-55, and V-510 to circumnavigate the affected area, or receive air traffic control (ATC) radar vectors to fly through the affected area. Additionally, IFR pilots equipped with RNAV capabilities could use T-331, as proposed to be extended, and T-405 or navigate point to point using the existing fixes that would remain in place to support continued operations though the affected area. Visual flight rules (VFR) pilots who elect to navigate via the affected ATS routes could also take advantage of the adjacent ATS routes or ATC services listed previously.

Further, the FAA proposes to establish RNAV route T-475 between the Bismarck, ND, VOR/DME NAVAID and the GICHI, ND, waypoint (WP) located near the Devils Lake, ND, VOR/DME. The proposed T-route would overlay the existing V-169 and, in part, mitigate the proposed removal of the V-169 segment affected by the planned decommissioning of the Devils Lake VOR. The new T-route would provide airspace users equipped with RNAV capabilities an enroute alternative between the Bismarck, ND, area and the Devils Lake, ND, area. Lastly, the new T-route would support the FAA's NextGen efforts to modernize the NAS navigation system from a ground-based system to a satellite-based system.

The Proposal

The FAA is proposing an amendment to 14 CFR part 71 to amend VOR Federal airways V-169, V-170, and V-430, and RNAV route T-331; and establish RNAV route T-475 due to the planned decommissioning of the Devils Lake, ND, VOR. The proposed ATS route actions are described below.

V-169: V-169 currently extends between the Tobe, CO, VOR/DME and the Devils Lake, ND, VOR/DME. The FAA proposes to remove the route segment between the Bismarck, ND, VOR/DME and the Devils Lake, ND, VOR/DME. As amended, the airway would be changed to extend between the Tobe, CO, VOR/DME and the Bismarck, ND, VOR/DME.

V-170: V-170 currently extends between the Devils Lake, ND, VOR/DME and the Sioux Falls, SD, VORTAC; between the Rochester, MN, VOR/DME and the Salem, MI, VORTAC; and between the Slate Run, PA, VORTAC and the intersection of the Andrews, MD, VORTAC 060° and Baltimore, MD, VORTAC 165° radials (POLLA Fix). The airspace within R-5802 is excluded when active. The FAA proposes to remove the airway segment between the Devils Lake, ND, VOR/DME and the Jamestown, SD, VOR/DME. As amended, the airway would be changed to extend between the Jamestown VOR/DME and the Sioux Falls VORTAC; between the Rochester VOR/DME and the Salem VORTAC; and between the Slate Run VORTAC and the POLLA Fix. The R-5802 exclusion language would remain unchanged.

V-430: V-430 currently extends between the Cut Bank, MT, VOR/DME and the Escanaba, MI, VOR/DME. The FAA proposes to remove the airway segment between the Minot, ND, VOR/DME and the Grand Forks, ND, VOR/DME. As amended, the airway would be changed to extend between the Cut Bank VOR/DME and the Minot VOR/DME; and between the Grand Forks VOR/DME and the Escanaba VOR/DME.

T-331: T-331 currently extends between the FRAME, CA, Fix and the FONIA, ND, Fix. The FAA proposes to extend the route east from the FONIA Fix to the MECNU, MN, Fix located near the western shore of Lake Superior and the United States/Canada border. The T-331 extension would overlie the current V-430 airway between the FIONA Fix and the Duluth, MN, VORTAC to provide an RNAV route alternative for the V-430 airway segment proposed to be removed as noted above. From the Duluth VORTAC, T-331 would overlie the V-13 airway to the MECNU Fix. The full route description is listed in the amendments to part 71 set forth below.

T-475: T-475 is a proposed new RNAV route that would extend between the Bismarck, ND, VOR/DME and the GICHI, ND, WP located near the Devils Lake, ND, VOR/DME. The new route would overlie the current V-169 airway and serve as a RNAV route alternative for the V-169 airway segment proposed to be removed as noted above. The full route description is listed in the amendments to part 71 set forth below.

The NAVAID radials listed in the VOR Federal airway descriptions below are unchanged and stated in True degrees.

VOR Federal airways are published in paragraph 6010(a), and United States Area Navigation Routes (T-routes) are published in paragraph 6011 of FAA Order JO 7400.11G, dated August 19, 2022, and effective September 15, 2022, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-169 [Amended]

From Tobe, CO; 69 MSL, Hugo, CO; 38 miles, 67 MSL, Thurman, CO; Akron, CO; Sidney, NE; Scottsbluff, NE; Toadstool, NE; Rapid City, SD; Dupree, SD; to Bismarck, ND.

* * * * *

V-170 [Amended]

From Jamestown, ND; Aberdeen, SD; to Sioux Falls, SD. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-430 [Amended]

From Cut Bank, MT; 10 miles, 74 miles 55 MSL; Havre, MT, 14 miles, 100 miles 50 MSL; Glasgow, MT; INT Glasgow 100° and Williston, ND, 263° radials, 22 miles, 33 miles 55 MSL, Williston; to Minot, ND. From Grand Forks, ND; Thief River Falls, MN; INT Thief River Falls 122° and Grand Rapids, MN, 292° radials; Grand Rapids; Duluth, MN; Ironwood, MI; Iron Mountain, MN; to Escanaba, MI.

* * * * *

Paragraph 6011 United States Area Navigation Routes.

* * * * *

T-331 FRAME, CA to MECNU, MN [Amended]
FRAME, CA | FIX | (Lat. 36°36′46.74″ N, long. 119°40′25.53″ W)
NTELL, CA | WP | (Lat. 36°53′58.99″ N, long. 119°53′22.21″ W)
KARNN, CA | FIX | (Lat. 37°09′03.79″ N, long. 121°16′45.22″ W)
VINCO, CA | FIX | (Lat. 37°22′35.11″ N, long. 121°42′59.52″ W)
NORCL, CA | WP | (Lat. 37°31′02.66″ N, long. 121°43′10.60″ W)
MOVDD, CA | WP | (Lat. 37°39′40.88″ N, long. 121°26′53.53″ W)
EVETT, CA | WP | (Lat. 38°00′36.11″ N, long. 121°07′48.14″ W)
TIPRE, CA | WP | (Lat. 38°12′21.00″ N, long. 121°02′09.00″ W)
Squaw Valley, CA (SWR) | VOR/DME | (Lat. 39°10′49.16″ N, long. 120°16′10.60″ W)
TRUCK, CA | FIX | (Lat. 39°26′15.67″ N, long. 120°09′42.48″ W)
Mustang, NV (FMG) | VORTAC | (Lat. 39°31′52.60″ N, long. 119°39′21.87″ W)
Lovelock, NV (LLC) | VORTAC | (Lat. 40°07′30.95″ N, long. 118°34′39.34″ W)
Battle Mountain, NV (BAM) | VORTAC | (Lat. 40°34′08.69″ N, long. 116°55′20.12″ W)
TULIE, ID | WP | (Lat. 42°37′58.49″ N, long. 113°06′44.54″ W)
AMFAL, ID | WP | (Lat. 42°45′56.67″ N, long. 112°50′04.64″ W)
Pocatello, ID (PIH) | VOR/DME | (Lat. 42°52′13.38″ N, long. 112°39′08.05″ W)
VIPUC, ID | FIX | (Lat. 43°21′09.64″ N, long. 112°14′44.08″ W)
Idaho Falls, ID (IDA) | VOR/DME | (Lat. 43°31′08.42″ N, long. 112°03′50.10″ W)
SABAT, ID | FIX | (Lat. 44°00′59.71″ N, long. 111°39′55.04″ W)
Billings, MT (BIL) | VORTAC | (Lat. 45°48′30.81″ N, long. 108°37′28.73″ W)
EXADE, MT | FIX | (Lat. 47°35′56.78″ N, long. 104°32′40.61″ W)
JEKOK, ND | WP | (Lat. 47°59′31.05″ N, long. 103°27′17.51″ W)
FONIA, ND | FIX | (Lat. 48°15′35.07″ N, long. 103°10′37.54″ W)
Minot, ND (MOT) | VOR/DME | (Lat. 48°15′37.21″ N, long. 101°17′13.46″ W)
GICHI, ND | WP | (Lat. 48°06′54.20″ N, long. 098°54′45.14″ W)
Grand Forks, ND (GFK) | VOR/DME | (Lat. 47°57′17.40″ N, long. 097°11′07.33″ W)
Thief River Falls, MN (TVF) | VOR/DME | (Lat. 48°04′09.53″ N, long. 096°11′11.31″ W)
BLUOX, MN | FIX | (Lat. 47°34′33.13″ N, long. 095°01′29.11″ W)
Duluth, MN (DLH) | VORTAC | (Lat. 46°48′07.79″ N, long. 092°12′10.33″ W)
MECNU, MN | FIX | (Lat. 47°58′26.68″ N, long. 089°59′33.66″ W)
* * * * * * *
T-475 Bismarck, ND (BIS) to GICHI, ND [New]
Bismarck, ND (BIS) | VOR/DME | (Lat. 46°45′42.34″ N, long. 100°39′55.47″ W)
GICHI, ND | WP | (Lat. 48°06′54.20″ N, long. 098°54′45.14″ W)

* * * * *

Issued in Washington, DC, on December 8, 2022.
Scott M. Rosenbloom,
Manager, Airspace Rules and Regulations.

[FR Doc. 2022-27086 Filed 12-14-22; 8:45 am]

BILLING CODE 4910-13-P